FEDERAL COMMUNICATIONS COMMISSION

[Report No. 2665]

Petitions for Reconsideration of Action in Rulemaking Proceeding

July 22, 2004.

Petitions for Reconsideration have been filed in the Commission's Rulemaking proceeding listed in this Public Notice and published pursuant to 47 CFR 1.429(e). The full text of this document is available for viewing and copying in Room CY-B402, 445 12th Street, SW., Washington, DC, or may be purchased from the Commission's copy contractor, Best Copy and Printing, Inc. (BCPI) (1-800-378-3160). Oppositions to these petitions must be filed by August 16, 2004. See Section 1.4(b)(1) of the Commission's rules (47 CFR 1.4(b)(1)). Replies to an opposition must be filed within 10 days after the time for filing oppositions have expired.

Subject: In the Matter of Table of Allotments Digital Television Broadcast Stations (Albany, New York) (MB Docket No. 02-92, RM-10363).

Number of Petitions Filed: 3.

Marlene H. Dortch,
Secretary.

[FR Doc. 04-17429 Filed 7-29-04; 8:45 am]

BILLING CODE 6712-01-M